Agency for International Development

Notice of Meeting: Board for International Food and Agricultural Development

Pursuant to the Federal Advisory Committee Act, notice is hereby given of the public meeting of the Board for International Food and Agricultural Development (BIFAD). The meeting will be held from 8:30 a.m. to 2:30 p.m. on April 13, 2012 at the National Press Club located at 529 14th St. NW., Washington, DC. The central theme of this year's meeting will center on the breadth of university partnerships in agricultural research and development with USAID and the future of those relationships.

Dr. Brady Deaton, BIFAD Chair and Chancellor of the University of Missouri at Columbia, will preside over the meeting.

The public meeting will begin promptly at 8:30 a.m. with opening remarks by BIFAD Chair Brady Deaton. The Board will address both old and new business during this time and hear from USAID on the implementation of the agricultural research strategy. Two board members will discuss outcomes of recent research inception workshops on sustainable intensification, hosted by USAID in Ethiopia and Tanzania. Two other board members will then offer comments on their travel to and participation in events and planning meetings related to the USAID Collaborative Research Support Program (CRSP). Time will then be allowed for public comment. The board will then break for closed lunch.

In the afternoon, the board will hear from Dr. Alex Dehgan, USAID Chief Scientist, on the Grand Challenges for Development initiative and the Higher Education Solutions Network Request for Assistance, in which academic institutions were invited to participate. Another opportunity will be allowed for public comment. The Board members greatly benefit in hearing from the stakeholder community and others. To ensure that as many participants as possible have the opportunity to contribute to the morning's discussion, comments will be restricted to 3 minutes each for each commenter.

Those wishing to attend the meeting or obtain additional information about BIFAD should contact Susan Owens, Executive Director and Designated Federal Officer for BIFAD. Interested persons may write to her in care of the U.S. Agency for International Development, Ronald Reagan Building, Bureau for Food Security, 1300 Pennsylvania Avenue NW., Room 2.12-001, Washington, DC 20523-2110 or telephone her at (202) 712-0218.

Susan Owens,
USAID Designated Federal Officer, BIFAD.

[FR Doc. 2012-7014 Filed 3-22-12; 8:45 am]

BILLING CODE ;P